DEPARTMENT OF TRANSPORTATION

Federal Aviation Administration

14 CFR Part 39

[Docket No. FAA-2007-27071; Directorate Identifier 2007-CE-004-AD; Amendment 39-15084; AD 2007-12-06]

RIN 2120-AA64

Airworthiness Directives; Hawker Beechcraft Corporation (Type Certificate (TC) No. 3A20 and TC No. A24CE Formerly Held by Raytheon Aircraft Corporation and Beech) Models C90A, B200, B200C, B300, and B300C Airplanes

AGENCY: Federal Aviation Administration (FAA), Department of Transportation (DOT).

ACTION: Final rule.

SUMMARY: We are adopting a new airworthiness directive (AD) that supersedes AD 2006-23-02, which applies to certain Hawker Beechcraft Corporation (HBC) (Type Certificate (TC) No. 3A20 and TC No. A24CE formerly held by Raytheon Aircraft Corporation and Beech) Models C90A, B200, B200C, B300, and B300C airplanes. AD 2006-23-02 currently requires you to inspect the flight controls for improper assembly or damage, and if any improperly assembled or damaged flight controls are found, take corrective action. Since we issued AD 2006-23-02, we have determined the need to add airplane serial numbers that were not previously included in the applicability. Consequently, this AD retains the actions of AD 2006-23-02 and adds airplane serial numbers to the applicability. We are issuing this AD to detect and correct improperly assembled or damaged flight controls, which could result in an unsafe condition by reducing capabilities of the flight controls and lead to loss of control.

DATES: This AD becomes effective on July 16, 2007.

On July 16, 2007, the Director of the Federal Register approved the incorporation by reference of Raytheon Aircraft Company Mandatory Service Bulletin Number SB 27-3761, Rev. 1, December 2006, listed in this AD.

As of December 13, 2006 (71 FR 65390 Nov. 8, 2006), the Director of the Federal Register approved the incorporation by reference of Raytheon Aircraft Company Mandatory Service Bulletin Number SB 27-3761, Issued: February 2006, listed in this AD.

ADDRESSES: For service information identified in this AD, contact Hawker Beechcraft Corporation, P.O. Box 85, Wichita, Kansas 67201-0085; telephone: (800) 429-5372 or (316) 676-3140.

To view the AD docket, go to the Docket Management Facility; U.S. Department of Transportation, 400 Seventh Street, SW., Nassif Building, Room PL-401, Washington, DC 20590-0001 or on the Internet at http://dms.dot.gov. The docket number is FAA-2007-27071; Directorate Identifier 2007-CE-004-AD.

FOR FURTHER INFORMATION CONTACT: Chris B. Morgan, Aerospace Engineer, FAA, Wichita Aircraft Certification Office, 1801 Airport Road, Wichita, Kansas 67209; telephone: (316) 946-4154; fax: (316) 946-4107.

SUPPLEMENTARY INFORMATION:

Discussion

On March 6, 2007, we issued a proposal to amend part 39 of the Federal Aviation Regulations (14 CFR part 39) to include an AD that would apply to certain HBC Models C90A, B200, B200C, B300, and B300C airplanes. This proposal was published in the Federal Register as a notice of proposed rulemaking (NPRM) on March 12, 2007 (72 FR 10949). The NPRM proposed to retain the actions of AD 2006-23-02 and add airplane serial numbers to the applicability.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 138 airplanes in the U.S. registry.

We estimate the following costs to do the inspection:

Labor cost | Parts cost | Total cost per airplane | Total cost on U.S. operators
80 work-hours × $80 per hour = $6,400 | Not Applicable | $6,400 | $883,200

We have no way of determining the number of airplanes that may need any corrective action that would be required based on the results of the proposed inspection.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2007-27071; Directorate Identifier 2007-CE-004-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2007-12-06 Hawker Beechcraft Corporation Hawker Beechcraft Corporation (Type Certificate (TC) No. 3A20 and TC No. A24CE formerly held by Raytheon Aircraft Corporation and Beech): Amendment 39-15084; Docket No. FAA-2007-27071; Directorate Identifier 2007-CE-004-AD.

Effective Date

(a) This AD becomes effective on July 16, 2007.

Affected ADs

(b) This AD supersedes AD 2006-23-02, Amendment 39-14814.

Applicability

(c) This AD applies to the following airplane models and serial numbers that are certificated in any category:

(1) Group 1 Airplanes (maintains the actions from AD 2006-23-02):

Model | Serial No.
(i) C90A | LJ-1697 through LJ-1726, LJ-1728, LJ-1729, and LJ-1731 through LJ-1739.
(ii) B200 | BB-1827 through BB-1912.
(iii) B200C | BL-148 and BL-149.
(iv) B300 | FL-379 through FL-423, FL-426, FL-428 through FL-450, and FL-452.
(v) B300C | FM-11.

(2) Group 2 Airplanes: Model C90A, serial numbers LJ-1741 through LJ-1743.

Unsafe Condition

(d) This AD results from our determination to add airplane serial numbers that were not previously included in the applicability. We are issuing this AD to detect and correct improperly assembled or damaged flight controls, which could result in an unsafe condition by reducing capabilities of the flight controls and lead to loss of control.

Compliance

(e) To address this problem, you must do the following, unless already done:

Actions | Compliance | Procedures
(1) Inspect the entire flight control system for improper assembly and any damage | (i) For Group 1 Airplanes: At whichever of the following occurs first: (A) Within the next 100 hours time-in-service (TIS) after December 13, 2006 (the effective date of AD 2006-23-02); or (B) At the next annual inspection that occurs at least 30 days after December 13, 2006 (the effective date of AD 2006-23-02) (ii) For Group 2 Airplanes: At whichever of the following occurs first: (A) Within the next 100 hours TIS after July 16, 2007 (the effective date of this AD); or (B) At the next annual inspection that occurs at least 30 days after July 16, 2007 (the effective date of this AD). | Follow Raytheon Aircraft Company Mandatory Service Bulletin Number SB 27-3761, Issued: February 2006; or Raytheon Aircraft Company Mandatory Service Bulletin Number SB 27-3761, Rev. 1, Dated December 2006.
(2) If you find any improperly assembled or damaged flight controls as a result of the inspection required by paragraph (e)(1) of this AD, take corrective action as specified in the service information | Before further flight after the inspection required by paragraph (e)(1) of this AD | Follow Raytheon Aircraft Company Mandatory Service Bulletin Number SB 27-3761, Issued: February 2006; or Raytheon Aircraft Company Mandatory Service Bulletin Number SB 27-3761, Rev. 1, Dated December 2006.

Alternative Methods of Compliance (AMOCs)

(f) The Manager, Wichita Aircraft Certification Office (ACO), FAA, has the authority to approve AMOCs for this AD, if requested using the procedures found in 14 CFR 39.19. Send information to ATTN: Chris B. Morgan, Aerospace Engineer, FAA, Wichita ACO, 1801 Airport Road, Wichita, Kansas 67209; telephone: (316) 946-4154; fax: (316) 946-4107. Before using any approved AMOC on any airplane to which the AMOC applies, notify your appropriate principal inspector (PI) in the FAA Flight Standards District Office (FSDO), or lacking a PI, your local FSDO.

(g) AMOCs approved for AD 2006-23-02 are approved for this AD.

Related Information

(h) To get copies of the service information referenced in this AD, contact Hawker Beechcraft Corporation, P.O. Box 85, Wichita, Kansas 67201-0085; telephone: (800) 429-5372 or (316) 676-3140. To view the AD docket, go to the Docket Management Facility; U.S. Department of Transportation, 400 Seventh Street, SW., Nassif Building, Room PL-401, Washington, DC, or on the Internet at http://dms.dot.gov. The docket number is Docket No. FAA-2007-27071; Directorate Identifier 2007-CE-004-AD.

Material Incorporated by Reference

(i) You must use Raytheon Aircraft Company Mandatory Service Bulletin Number SB 27-3761, Issued: February 2006; or Raytheon Aircraft Company Mandatory Service Bulletin Number SB 27-3761, Rev. 1, Dated December 2006, to do the actions required by this AD, unless the AD specifies otherwise.

(1) The Director of the Federal Register approved the incorporation by reference of Raytheon Aircraft Company Mandatory Service Bulletin Number SB 27-3761, Rev. 1, Dated December 2006, under 5 U.S.C. 552(a) and 1 CFR part 51.

(2) On December 13, 2006 (71 FR 65390 Nov. 8, 2006), the Director of the Federal Register approved the incorporation by reference of Raytheon Aircraft Company Mandatory Service Bulletin Number SB 27-3761, Issued: February 2006.

(3) For service information identified in this AD, contact Hawker Beechcraft Corporation, P.O. Box 85, Wichita, Kansas 67201-0085; telephone: (800) 429-5372 or (316) 676-3140.

(4) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on May 29, 2007.
David R. Showers,
Acting Manager, Small Airplane Directorate, Aircraft Certification Service.

[FR Doc. E7-10758 Filed 6-8-07; 8:45 am]

BILLING CODE 4910-13-P